DEPARTMENT OF TRANSPORTATION

National Highway Traffic Safety Administration

49 CFR Part 541

[Docket No. NHTSA-2019-0056]

RIN 2127-AM24

Federal Motor Vehicle Theft Prevention Standard; Final Listing of 2019 Light Duty Truck Lines Subject to the Requirements of This Standard and Exempted Vehicle Lines for Model Year 2019

AGENCY: National Highway Traffic Safety Administration (NHTSA), U.S. Department of Transportation.

ACTION: Final rule.

SUMMARY: This final rule announces NHTSA's determination that there are no new model year 2019 light duty truck lines subject to the parts-marking requirements of the Federal motor vehicle theft prevention standard. The agency determined no new models were high-theft or had major parts that are interchangeable with a majority of the covered major parts of passenger car or multipurpose passenger vehicle lines. This final rule also identifies those vehicle lines that have been granted an exemption from the parts-marking requirements because they are equipped with antitheft devices determined to meet certain criteria.

DATES: This final rule is effective August 30, 2021.

FOR FURTHER INFORMATION CONTACT: Ms. Carlita Ballard, Office of International Policy, Fuel Economy and Consumer Programs, NHTSA, West Building, W43-439, NRM-310, 1200 New Jersey Avenue SE, Washington, DC 20590. Ms. Ballard's phone number is (202) 366-5222. Her fax number is (202) 493-2990.

SUPPLEMENTARY INFORMATION: The theft prevention standard (49 CFR part 541) applies to (1) all passenger car lines; (2) all multipurpose passenger vehicle (MPV) lines with a gross vehicle weight rating (GVWR) of 6,000 pounds or less; (3) low-theft light-duty truck (LDT) lines with a GVWR of 6,000 pounds or less that have major parts that are interchangeable with a majority of the covered major parts of passenger car or MPV lines; and (4) high-theft LDT lines with a GVWR of 6,000 pounds or less.

The purpose of the theft prevention standard is to reduce the incidence of motor vehicle theft by facilitating the tracing and recovery of parts from stolen vehicles. The standard seeks to facilitate such tracing by requiring that vehicle identification numbers (VINs), VIN derivative numbers, or other symbols be placed on major component vehicle parts. The theft prevention standard requires motor vehicle manufacturers to inscribe or affix VINs onto covered original equipment major component parts, and to inscribe or affix a symbol identifying the manufacturer and a common symbol identifying the replacement component parts for those original equipment parts, on all vehicle lines subject to the requirements of the standard.

49 U.S.C. 33104(d) provides that once a line has become subject to the theft prevention standard, the line remains subject to the requirements of the standard unless it is exempted under 49 U.S.C. 33106. Section 33106 provides that a manufacturer may petition annually to have one vehicle line exempted from the requirements of section 33104, if the line is equipped with an antitheft device meeting certain conditions as standard equipment. The exemption is granted if NHTSA determines that the antitheft device is likely to be as effective as compliance with the theft prevention standard in reducing and deterring motor vehicle thefts.

49 CFR part 543 establishes the process through which manufacturers may seek an exemption from the theft prevention standard. Manufacturers may request an exemption under 49 CFR 543.6 by providing specific information about the antitheft device, its capabilities, and the reasons the petitioner believes the device to be as effective at reducing and deterring theft as compliance with the parts-marking requirements,¹ or manufacturers may request an exemption under a more streamlined process outlined in 49 CFR 543.7 if the vehicle line is equipped with an antitheft device (an “immobilizer”) as standard equipment that complies with one of the standards specified in that section.² If the exemption is sought under 49 CFR 543.6, NHTSA publishes a notice of its decision to grant or deny the exemption petition in the Federal Register and notifies the petitioner in writing; if the petition is sought under section 49 CFR 543.7, NHTSA notifies the petitioner in writing of the agency's decision to grant or deny the exemption petition.

¹ 49 CFR 543.6.

² 49 CFR 543.7.

NHTSA annually publishes the names of LDT lines NHTSA has determined to be high theft pursuant to 49 CFR part 541, LDT lines that NHTSA has determined to have major parts that are interchangeable with a majority of the covered major parts of passenger car or MPV lines, and vehicle lines that NHTSA has exempted from the theft prevention standard. Appendix A to part 541 identifies those LDT lines subject to the theft prevention standard beginning in a given model year. Appendix A-I to part 541 also lists those vehicle lines that NHTSA has exempted from the theft prevention standard.

For MY 2019, there are no new LDT lines that will be subject to the theft prevention standard in accordance with the procedures published in 49 CFR part 542.

Appendix A-I identifies those vehicle lines that have been exempted by the agency from the parts-marking requirements of part 541 and is amended to include ten MY 2019 vehicle lines newly exempted in full. The ten exempted vehicle lines are the BMW 8 Series, Ford Lincoln Nautilus, GM Cadillac XT4, Honda Passport, Hyundai Genesis G80, Kia Stinger, Nissan Infiniti QX50, Subaru Ascent, Toyota Avalon and the Jaguar Land Rover Velar. NHTSA has either previously granted these exemption requests and published the determination in the Federal Register if the exemption was sought under 49 CFR 543.6, or has notified the manufacturer of the grant of exemption if the exemption was sought under 49 CFR 543.7.

Each year the agency also amends the appendices to part 541 to remove vehicle lines that have not been manufactured for the United States market in over 5 years. We believe that including those vehicle lines would be unnecessary. Therefore, the agency is removing the BMW 1 Series, Honda Acura TL, Hyundai Genesis, Nissan Cube, Nissan Infiniti G, Nissan Infiniti M, Subaru B9 Tribeca, and the Suzuki Kizashi vehicle lines from the Appendix A-I listing. However, NHTSA will continue to maintain a comprehensive database of all exemptions on our website.

The changes made in this notice are purely informational. The ten vehicle lines that will be added to Appendix A-I of part 541 were granted exemptions in accordance with the procedures of 49 CFR part 543 and 49 U.S.C. 33106 and notices of the grants of those exemptions were published in the Federal Register, or the manufacturer was notified by grant letter. Therefore, NHTSA finds good cause under 5 U.S.C. 553(b)(3)(B) that notice and opportunity for comment on this final rule is unnecessary. Further, public comment on the listing of selections and exemptions is not contemplated by 49 U.S.C. Chapter 331. For the same reasons, since this revised listing only informs the public of previous agency actions and does not impose additional obligations on any party, NHTSA finds good cause under 5 U.S.C. 553(d)(3) to make the amendment made by this notice effective on the date this notice is published in the Federal Register.

Regulatory Notices

A. Executive Order 12866 and DOT Regulatory Policies and Procedures

This rulemaking document was not reviewed by the Office of Management and Budget (OMB) under Executive Order (E.O.) 12866. It is not considered to be significant under E.O. 12866 or the Department's Regulatory Policies and Procedures. The purpose of this final rule is to provide information to the public about vehicle lines that must comply with the parts marking requirements of NHTSA's theft prevention standard and vehicles that NHTSA has exempted from those requirements. Since the purpose of the final rule is to inform the public of actions NHTSA has already taken, either determining that new lines are subject to parts marking requirements or exempting vehicle lines from those requirements, the final rule will not impose any new burdens.

B. National Environmental Policy Act

NHTSA has analyzed this final rule for the purposes of the National Environmental Policy Act. The agency has determined that implementation of this action will not have any significant impact on the quality of the human environment as it merely informs the public about previous agency actions. Accordingly, no environmental assessment is required.

C. Executive Order 13132 (Federalism)

The agency has analyzed this rulemaking in accordance with the principles and criteria contained in Executive Order 13132 and has determined that it does not have sufficient federal implications to warrant consultation with State and local officials or the preparation of a federalism summary impact statement. As discussed above, this final rule only provides information to the public about previous agency actions.

D. Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually ($120.7 million as adjusted annually for inflation with base year of 1995). The assessment may be combined with other assessments, as it is here.

This final rule will not result in expenditures by State, local or tribal governments or automobile manufacturers and/or their suppliers of more than $120.7 million annually. This document informs the public of previously granted exemptions. Since the only purpose of this final rule is to inform the public of previous actions taken by the agency, no new costs or burdens will result.

E. Executive Order 12988 (Civil Justice Reform)

Pursuant to Executive Order 12988, “Civil Justice Reform,” ³ the agency has considered whether this final rule has any retroactive effect. We conclude that it would not have such an effect as it only informs the public of previous agency actions. In accordance with section 49 U.S.C. 33118, when a Federal theft prevention standard is in effect, a State or political subdivision of a State may not have a different motor vehicle theft prevention standard for a motor vehicle or major replacement part. 49 U.S.C. 33117 provides that judicial review of this rule may be obtained pursuant to 49 U.S.C. 32909. Section 32909 does not require submission of a petition for reconsideration or other administrative proceedings before parties may file suit in court.

³ See 61 FR 4729, February 7, 1996.

F. Paperwork Reduction Act

Under the Paperwork Reduction Act of 1995 (PRA) (44 U.S.C. 3501, et seq.), Federal agencies must obtain approval from the Office of Management and Budget (OMB) for each collection of information they conduct, sponsor, or require through regulations. There are no information collection requirements associated with this final rule.

List of Subjects in 49 CFR Part 541

Administrative practice and procedure, Labeling, Motor vehicles, Reporting and recordkeeping requirements.

In consideration of the foregoing, 49 CFR part 541 is amended as follows:

PART 541—[AMENDED]

1. The authority citation for part 541 continues to read as follows:

Authority: 49 U.S.C. 33101, 33102, 33103, 33104, 33105 and 33106; delegation of authority at 49 CFR 1.95.

2. Appendix A-I to part 541 is revised to read as follows:

Appendix A-I to Part 541—Lines With Antitheft Devices Which Are Exempted From the Parts-Marking Requirements of This Standard Pursuant to 49 CFR Part 543

Manufacturer | Subject lines
BMW | MINI, MINI Countryman (MPV), X1 (MPV), X1, X2 (MPV), X3, X4, X5 (MPV), Z4, 3 Series, 4 Series, 5 Series, 6 Series, 7 Series, 8 Series.¹
CHRYSLER | 200, 300, Dodge Charger, Dodge Challenger, Dodge Dart, Dodge Journey, Fiat 500, Fiat 124 Spider, Jeep Cherokee, Jeep Compass, Jeep Grand Cherokee (MPV), Jeep Patriot, Jeep Wrangler/Wrangler JK,² Jeep Wrangler JL (new),¹ Town and Country MPV.
FORD MOTOR CO | C-Max, EcoSport, Edge, Escape, Explorer, Fiesta, Focus, Fusion, Lincoln MKC, Lincoln MKX, Lincoln Nautilus,¹ Mustang, Taurus.
GENERAL MOTORS | Buick LaCrosse/Regal, Buick Verano, Cadillac ATS, Cadillac CTS, Cadillac SRX, Cadillac XTS, Cadillac XT4,¹ Chevrolet Bolt, Chevrolet Camaro, Chevrolet Corvette, Chevrolet Cruze, Chevrolet Equinox, Chevrolet Impala/Monte Carlo, Chevrolet Malibu, Chevrolet Sonic, Chevrolet Spark, Chevrolet Volt, GMC Terrain.
HONDA | Accord, Acura MDX, Civic, CR-V, Passport,¹ Pilot.
HYUNDAI | Azera, Equus, Genesis G80,1 3 IONIQ.
JAGUAR | F-Type, XE, XF, XJ, XK, Land Rover Discovery Sport, Land Rover F-Pace, Land Rover LR2, Land Rover Range Rover Evoque, Land Rover Velar.¹
KIA | Niro, Stinger.¹
MASERATI | Ghibli, Levante (SUV), Quattroporte.
MAZDA | 2, 3, 5, 6, CX-3, CX-5, CX-9, MX-5 Miata.
MERCEDES-BENZ | smart Line Chassis, smart USA fortwo, SL-Line Chassis (SL-Class) (the models within this line are): SL400/SL450, SL550, SL 63/AMG, SL 65/AMG, SLK-Line Chassis (SLK-Class/SLC-Class) (the models within this line are): SLK 250, SLK 300, SLK 350, SLK 55 AMG, SLC 300 AMG, SLC 43, S-Line Chassis (S/CL/S-Coupe Class/S-Class Cabriolet/Mercedes Maybach) (the models within this line are): S400 Hybrid, S550, S600, S63 AMG, S65 AMG, Mercedes-Maybach S560, Mercedes-Maybach S650, CL550, CL600, CL63 AMG, CL65 AMG, NGCC Chassis Line (CLA/GLA/B-Class/A-Class) (the models within this line are): A220, B250e, CLA250, CLA45 AMG, GLA250, GLA45 AMG, C-Line Chassis (C-Class/CLK/GLK-Class/GLC-Class) (the models within this line are): C63 AMG, C240, C250, C300, C350, CLK 350, CLK 550, CLK 63AMG, GLK250, GLK350, E-Line Chassis (E-Class/CLS Class) (the models within this line are): E55, E63 AMG, E320 BLUETEC, E350 BLUETEC, E320/E320DT CDi, E350/E500/E550, E400 HYBRID, CLS400, CLS500/550, CLS55 AMG, CLS63 AMG.
MITSUBISHI | Eclipse Cross, iMiEV, Lancer, Outlander, Outlander Sport, Mirage.
NISSAN | Altima, Juke, Leaf, Maxima, Murano, NV200 Taxi, Pathfinder, Quest, Rogue, Kicks, Sentra, Infiniti Q70, Infiniti Q50/60, Infiniti QX50,¹ Infiniti QX60.
PORSCHE | 911, Boxster/Cayman, Macan, Panamera.
SUBARU | Ascent,¹ Forester, Impreza, Legacy, Outback, WRX, XV Crosstrek/Crosstrek.⁴
TESLA | Model 3, Model S, Model X.
TOYOTA | Avalon,¹ Camry, Corolla, Highlander, Lexus ES, Lexus GS, Lexus LS, Lexus NX, Lexus RX, Prius, RAV4, Sienna.
VOLKSWAGEN | Atlas, Beetle, Eos, Jetta, Passat, Tiguan, Audi A3, Audi A4, Audi A4 Allroad MPV, Audi A6, Audi A8, Audi Q3, Audi Q5, Audi TT, Golf/Golf Sport wagen/eGolf/Alltrack.
VOLVO | S60.
¹ Granted an exemption from the parts marking requirements beginning with MY 2019.
² Jeep Wrangler (2009-2019) nameplate changed to Jeep Wrangler JK, JK discontinued after MY 2018.
³ Hyundai discontinued use of its parts marking exemption for the Genesis vehicle line beginning with the 2010 model year, line was reintroduced as the Genesis G80.
⁴ Subaru XV Crosstrek nameplate changed to Crosstrek beginning with MY 2016.

Issued under authority delegated in 49 CFR 1.95, and 501.5.
Steven S. Cliff,
Acting Administrator.

[FR Doc. 2021-18632 Filed 8-27-21; 8:45 am]

BILLING CODE 4910-59-P